DEPARTMENT OF COMMERCE

International Trade Administration

Cornell University; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 05-002.

Applicant: Cornell University, Ithaca, NY 14853.

Instrument: KB Mirror System.

Manufacturer: Khozu Precision Co., Ltd., Japan.

Intended Use: See notice at 70 FR February 7, 2005.

Comments: None received.

Decision: Approved. No apparatus of equivalent scientific value to the foreign apparatus, for such purposes as it is intended to be used, is being manufactured in the United States.

Reason: This is a compatible accessory for an existing instrument purchased for the use of the applicant. The accessory is pertinent to the intended uses and we know of no domestic accessory which can be readily adapted for use with the existing instrument.

Gerald A. Zerdy,
Program Manager, Statutory Import Programs Staff.

[FR Doc. E5-1173 Filed 3-16-05; 8:45 am]

BILLING CODE 3510-DS-P